DEPARTMENT OF HEALTH AND HUMAN SERVICES

National Institutes of Health

Center for Scientific Review Amended; Notice of Meeting

Notice is hereby given of a change in the meeting of the Center for Scientific Review Special Emphasis Panel, Molecular and Cellular Endocrinology, February 6, 2020, 11:30 a.m. to February 6, 12:30 p.m., which was published in the Federal Register on January 13, 2020, 85 FR 1816.

The meeting location is being changed to Melrose Hotel, 2430 Pennsylvania Ave NW, Washington, DC 20037. Meeting dates and time remain the same. The meeting is closed to the public.

Dated: February 3, 2020.
Melanie J. Pantoja,
Program Analyst, Office of Federal Advisory Committee Policy.

[FR Doc. 2020-02456 Filed 2-6-20; 8:45 am]

BILLING CODE 4140-01-P